DEPARTMENT OF STATE

[Public Notice 5106]

Notice of Meeting of the Cultural Property Advisory Committee

In accordance with the provisions of the Convention on Cultural Property Implementation Act (19 U.S.C. 2601 et seq.) there will be a meeting of the Cultural Property Advisory Committee on Thursday, September 8, 2005, from approximately 9 a.m. to 5:30 p.m., and on Friday, September 9, 2005, from approximately 9 a.m. to 3 p.m., at the Department of State, Annex 44, Room 840, 301 4th St., SW., Washington, DC. During its meeting the Committee will review a proposal to extend the “Agreement between the Government of the United States of America and the Government of the Republic of Italy Concerning the Imposition of Import Restrictions on Categories of Archaeological Material Representing the Pre-Classical, Classical and Imperial Roman Periods of Italy.” The purpose of this review is for the Committee to make findings and a recommendation regarding the proposal to extend this Agreement.

The Committee's responsibilities are carried out in accordance with provisions of the Convention on Cultural Property Implementation Act (19 U.S.C. 2601 et seq.). The U.S.-Italy Agreement, the designated list of restricted categories, the text of the Act and related information may be found at http://exchanges.state.gov/culprop.

Portions of the meeting on September 8 and 9 will be closed pursuant to 5 U.S.C. 552b(c)(9)(B) and 19 U.S.C. 2605(h). However, on September 8, the Committee will hold an open session, approximately 1 p.m. to 3:30 p.m., to receive oral public comment on the proposal to extend the Agreement. Persons wishing to attend this open session should notify the Cultural Heritage Center of the Department of State at (202) 453-8800 by Wednesday, August 24, 2005, 5 p.m. (EST) to arrange for admission, as seating is limited.

Those who wish to make oral presentations should request to be scheduled and submit a written text of the oral comments by Thursday August 24, 2005, to allow time for distribution of these comments to Committee members for their review prior to the meeting. Oral comments will be limited to five minutes each to allow time for questions from members of the Committee and must specifically address the determinations under Section 303(a)(1) of the Convention on Cultural Property Implementation Act, 19 U.S.C. 2602, pursuant to which the Committee must make findings. This citation for the determinations can be found at the Web site noted above.

The Committee also invites written comments and asks that they be submitted no later than August 24, 2005. All written materials, including the written texts of oral statements, should be faxed to (202) 260-4893, if 5 pages or less. Written comments greater than five pages must be mailed (20 copies) to Cultural Heritage Center, Department of State Annex 44, 301 4th St., SW., Rm. 334, Washington, DC 20547. Express mail is recommended for timely delivery.

Dated: July 25, 2005.
Dina Habib Powell,
Assistant Secretary for Educational and Cultural Affairs, Department of State.

[FR Doc. 05-15154 Filed 7-29-05; 8:45 am]

BILLING CODE 4710-05-P